DEPARTMENT OF ENERGY

Federal Energy Regulatory Commission

Combined Notice of Filings

Take notice that the Commission has received the following Natural Gas Pipeline Rate and Refund Report filings:

Filings Instituting Proceedings

Docket Numbers: RP11-1711-000.

Applicants: Texas Gas Transmission, LLC.

Description: 2014 Cash Out Report Filing.

Filed Date: 1/24/14.

Accession Number: 20140124-5040.

Comments Due: 5 p.m. ET 2/5/14.

Docket Numbers: RP14-385-000.

Applicants: Ozark Gas Transmission, L.L.C.

Description: Index Price Name Change to be effective 2/24/2014.

Filed Date: 1/23/14.

Accession Number: 20140123-5034.

Comments Due: 5 p.m. ET 2/4/14.

Docket Numbers: RP14-386-000.

Applicants: Iroquois Gas Transmission System, L.P.

Description: 01/23/14 Negotiated Rates—Tenaska Gas Storage, LLC (HUB) 1175-89 to be effective 1/22/2014.

Filed Date: 1/23/14.

Accession Number: 20140123-5054.

Comments Due: 5 p.m. ET 2/4/14.

Docket Numbers: RP14-387-000.

Applicants: Iroquois Gas Transmission System, L.P.

Description: 01/23/14 Negotiated Rates—United Energy Trading, LLC (HUB) 5095-89 to be effective 1/22/2014.

Filed Date: 1/23/14.

Accession Number: 20140123-5059.

Comments Due: 5 p.m. ET 2/4/14.

Docket Numbers: RP14-388-000.

Applicants: Chandeleur Pipe Line, LLC.

Description: Chandeleur Pipe Line Company name changed to Chandeleur Pipe Line, LLC to be effective 1/24/2014.

Filed Date: 1/23/14.

Accession Number: 20140123-5101.

Comments Due: 5 p.m. ET 2/4/14.

Docket Numbers: RP14-389-000.

Applicants: Dominion Transmission, Inc.

Description: DTI—January 23, 2014 Negotiated Rate Agreement & Nonconforming SA to be effective 3/1/2014.

Filed Date: 1/23/14.

Accession Number: 20140123-5107.

Comments Due: 5 p.m. ET 2/4/14.

Docket Numbers: RP14-390-000.

Applicants: Gulf South Pipeline Company, LP.

Description: Neg Rate Agmts (Macquarie 41858 and Wells Fargo 41865) to be effective 1/24/2014.

Filed Date: 1/24/14.

Accession Number: 20140124-5041.

Comments Due: 5 p.m. ET 2/5/14.

Docket Numbers: RP14-391-000.

Applicants: Kinder Morgan Louisiana Pipeline Company.

Description: Penalty Revenue Crediting Report of Kinder Morgan Louisiana Pipeline LLC.

Filed Date: 1/23/14.

Accession Number: 20140123-5195.

Comments Due: 5 p.m. ET 2/4/14.

Docket Numbers: RP14-392-000.

Applicants: Northern Natural Gas Company.

Description: Petition for a Limited Waiver of Northern Natural Gas Company.

Filed Date: 1/24/14.

Accession Number: 20140124-5124.

Comments Due: 5 p.m. ET 2/5/14.

Docket Numbers: RP14-393-000.

Applicants: Columbia Gas Transmission, LLC.

Description: Commonwealth Settlement (Pro-Forma) to be effective 12/31/9998.

Filed Date: 1/24/14.

Accession Number: 20140124-5126.

Comments Due: 5 p.m. ET 2/5/14.

Docket Numbers: RP14-394-000.

Applicants: Kinder Morgan Illinois Pipeline LLC.

Description: Penalty Revenue Crediting Report for 2013 of Kinder Morgan Illinois Pipeline LLC.

Filed Date: 1/24/14.

Accession Number: 20140124-5206.

Comments Due: 5 p.m. ET 2/5/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-1031-004.

Applicants: Trailblazer Pipeline Company LLC.

Description: Interim Rates to be effective 2/1/2014.

Filed Date: 1/24/14.

Accession Number: 20140124-5185.

Comments Due: 5 p.m. ET 2/5/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated January 27, 2014.
Nathaniel J. Davis, Sr.,
Deputy Secretary.

[FR Doc. 2014-02235 Filed 2-3-14; 8:45 am]

BILLING CODE 6717-01-P